DEPARTMENT OF HOUSING AND URBAN DEVELOPMENT

24 CFR Part 15

[Docket No. FR-4292-F-03]

RIN 2501-AC51

Revision of Freedom of Information Act Regulations; Delay of Effective Date

AGENCY: Office of the Secretary, HUD.

ACTION: Final rule; delay of effective date.

SUMMARY: This document advises the public that the final rule published on January 22, 2001, which amends HUD's Freedom of Information Act (FOIA) regulations, will take effect on April 23, 2001. As provided in the SUPPLEMENTARY INFORMATION section of this final rule, this delay in the effective date is made in response to a White House memorandum of January 20, 2001. Given the imminence of the effective date of this rule, seeking prior public comment in accordance with HUD's regulations on rulemaking would have been impractical, as well as contrary to the public interest in the orderly promulgation and implementation of regulations.

DATES: The effective date of the final rule amending 24 CFR part 15 published at 66 FR 6964 (January 22, 2001) is delayed from February 21, 2001 until April 23, 2001.

FOR FURTHER INFORMATION CONTACT: Marylea Byrd, Assistant General Counsel, FOIA Division, Office of the General Counsel, Department of Housing and Urban Development, 451 Seventh Street, SW, Washington, DC 20410-0500, Room 10248; Telephone (202) 708-3866 (this is not a toll-free number.) Hearing- or speech-impaired individuals may access this number via TTY by calling the toll-free Federal Information Relay Service at 1-800-877-8339.

SUPPLEMENTARY INFORMATION: On January 22, 2001 (66 FR 6964), HUD published a final rule amending HUD's Freedom of Information Act (FOIA) regulations in their entirety. The rule implements the amendments made by the Electronic Freedom of Information Act to FOIA. The final rule also makes various streamlining and organizational changes to improve the clarity of the regulations. The final rule follows publication of a July 10, 2000 proposed rule, and takes into consideration the public comments received on the proposed rule.

The January 22, 2001 final rule provides for the rule to take effect on February 21, 2001. On January 20, 2001, the White House issued a memorandum to the heads and acting heads of all Executive Departments and Agencies regarding regulatory review. The January 20, 2001 memorandum instructs the agencies to temporarily postpone the effective dates of their regulations that have been published in the Federal Register but have not yet taken effect by 60 days. Consistent with the directive of the January 20, 2001 White House memorandum, the purpose of this document is to give notice that the effective date of the January 22, 2001 FOIA amendments final rule has been changed to April 23, 2001.

Accordingly, HUD's final rule published on January 22, 2001 at 66 FR 6964 (Docket No. FR-4292-F-02, FR Doc. 01-1397) will take effect on April 23, 2001.

Dated: January 24, 2001.
Mel Martinez,
Secretary.

[FR Doc. 01-2564 Filed 1-29-01; 8:45 am]

BILLING CODE 4210-32-P